ENVIRONMENTAL PROTECTION AGENCY

40 CFR Part 52

[EPA-R04-OAR-2016-0615; FRL-9959-08-Region 4]

Air Plan Approval; TN: Non-interference Demonstration for Federal Low-Reid Vapor Pressure Requirement in Middle Tennessee

AGENCY: Environmental Protection Agency.

ACTION: Proposed rule.

SUMMARY: The U.S. Environmental Protection Agency (EPA) is proposing to approve a State Implementation Plan (SIP) revision submitted by the State of Tennessee, submitted through the Tennessee Department of Environment and Conservation (TDEC), on November 21, 2016. This SIP revision was submitted in support of the State's request that EPA change the federal Reid Vapor Pressure (RVP) requirements for Davidson, Rutherford, Sumner, Williamson, and Wilson Counties (hereinafter referred to as the “Middle Tennessee Area” or “Area”). Tennessee's November 21, 2016, SIP submittal revises its maintenance plan for the Middle Tennessee Area for the 1997 8-hour ozone national ambient air quality standard (NAAQS) and demonstrates that relaxing the federal RVP requirements in this Area would not interfere with the Area's ability to meet the requirements of the Clean Air Act (CAA or Act). Specifically, Tennessee's SIP revision concludes that relaxing the federal RVP requirement from 7.8 pounds per square inch (psi) to 9.0 psi for gasoline sold between June 1 and September 15 of each year in the Area would not interfere with attainment or maintenance of the NAAQS or with any other CAA requirement. EPA is proposing to determine that Tennessee's November 21, 2016, SIP revision is consistent with the applicable provisions of the CAA.

DATES: Comments must be received on or before March 27, 2017.

ADDRESSES: Submit your comments, identified by Docket ID No. EPA-R04-OAR-2016-0615 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the Web, cloud, or other file sharing system). For additional submission methods, the full EPA public comment policy, information about CBI or multimedia submissions, and general guidance on making effective comments, please visit http://www2.epa.gov/dockets/commenting-epa-dockets.

FOR FURTHER INFORMATION CONTACT: D. Brad Akers, Air Regulatory Management Section, Air Planning and Implementation Branch, Air, Pesticides and Toxics Management Division, U.S. Environmental Protection Agency, Region 4, 61 Forsyth Street SW., Atlanta, Georgia 30303-8960. Mr. Akers can be reached via telephone at (404) 562-9089 or via electronic mail at akers.brad@epa.gov.

SUPPLEMENTARY INFORMATION:

I. What is being proposed today?

This rulemaking proposes to approve Tennessee's noninterference demonstration, submitted on November 21, 2016, in support of the State's request that EPA relax the federal RVP requirement from 7.8 psi to 9.0 psi for gasoline sold between June 1 and September 15 of each year (i.e., during high ozone season) in the Area. The State is requesting the removal of the federal 7.8 psi RVP requirement. As part of that request, Tennessee has evaluated whether removal of this requirement would interfere with air quality in the Area. To make this demonstration of noninterference, Tennessee completed a technical analysis, including modeling, to estimate the change in emissions that would result from a switch to 9.0 psi RVP fuel. EPA has reviewed this technical analysis and is proposing to find that Tennessee's demonstration supports the conclusion that the use of gasoline with an RVP of 9.0 psi throughout the Middle Tennessee Area will not interfere with attainment or maintenance of any NAAQS or with any other applicable requirement of the CAA.

EPA is proposing to approve changes to the existing CAA section 110(a)(1) ozone maintenance plan, including updated modeling, that show that the Middle Tennessee Area can continue to maintain the ozone standards without the use of gasoline with an RVP of 7.8 psi during the high ozone season. More specifically, EPA is proposing to approve that portion of Tennessee's November 21, 2016, SIP revision which includes a technical demonstration that changing the federal RVP requirements in this Area from 7.8 psi to 9.0 psi will not interfere with attainment or maintenance of any NAAQS or with any other applicable requirement of the CAA.¹

¹ A separate rulemaking is required for relaxation of the current requirement to use gasoline with an RVP of 7.8 psi in the Area. This action proposes EPA's evaluation of the approvability of Tennessee's noninterference demonstration pursuant to section 110(l). The decision regarding removal of Federal RVP requirements pursuant to section 211(h) in the Area includes other considerations evaluated at the discretion of the Administrator. As such, the determination regarding whether to remove the Area from those areas subject to the section 211(h) requirements is made through a separate rulemaking action.

This preamble is hereinafter organized into five parts. Section II provides the background of the Middle Tennessee Area designation status with respect to the various ozone NAAQS. Section III describes the applicable history of federal gasoline regulation. Section IV provides the Agency's policy regarding relaxation of the volatility standards. Section V provides EPA's analysis of the information submitted by Tennessee to support a change for the conventional gasoline volatility standard in the Middle Tennessee Area.

II. What is the background for the Middle Tennessee Area?

The Middle Tennessee Area was originally designated as a 1-hour ozone nonattainment area by EPA on March 3, 1978 (43 FR 8962). The Middle Tennessee Area, then referred to as the Nashville Area, was geographically defined as Davidson, Rutherford, Sumner, Williamson, and Wilson Counties, Tennessee. On November 6, 1991, by operation of law under section 181(a) of the CAA, EPA classified the Middle Tennessee nonattainment area as a moderate nonattainment area for ozone. See 56 FR 56693. Among the requirements applicable to nonattainment areas for the 1-hour ozone NAAQS, pursuant to the Clean Air Act Amendments of 1990, was the requirement to meet certain volatility standards (known as Reid Vapor Pressure or RVP) for gasoline sold commercially for calendar years 1992 and beyond. See 55 FR 23658 (June 11, 1990). As discussed in Section III below, a 7.8 psi federal RVP requirement first applied to the Area during the high ozone season given its status as a marginal nonattainment area for the 1-hour ozone standard after the effective date of the November 6, 1991 designation.²

² The designations were effective January 6, 1992.

TDEC originally requested a redesignation of the Middle Tennessee Area to attainment for the 1-hour ozone NAAQS on November 14, 1994. Tennessee updated its request and maintenance plan on August 9, 1995, and January 19, 1996. EPA approved the redesignation and maintenance plan on October 30, 1996, based on 1992-1994 ambient air quality monitoring data showing the Area attaining the NAAQS. See 61 FR 55903. Tennessee's 1-hour ozone redesignation request and maintenance plan did not include a request to relax the 7.8 psi federal RVP standard.

On April 30, 2004, EPA designated and classified areas for the 8-hour ozone NAAQS that was promulgated at a level of 0.085 parts per million on July 18, 1997. See 69 FR 23857. In this action, the Middle Tennessee Area had a pending designation as nonattainment for the 1997 8-hour ozone NAAQS with a delayed effective date because the Area was an Early Action Compact (EAC) area. EAC areas developed attainment demonstrations and implemented control measures on an expedited schedule to bring areas into compliance with the NAAQS prior to the effective designations. As such, TDEC submitted an attainment demonstration for the Middle Tennessee Area on December 29, 2004. EPA approved the attainment demonstration for the Area on August 26, 2005 (70 FR 50199). Subsequently, the Area showed attainment for the 1997 8-hour ozone NAAQS with a design value of 0.084 parts per million using quality assured data for the years of 2005-2007. The Area was designated to attainment for the 1997 8-hour ozone NAAQS in a final rulemaking on April 2, 2008, and was therefore never effectively designated as nonattainment for that NAAQS. See 73 FR 17897. Tennessee did not request to relax the 7.8 psi federal RVP standard in relation to the EAC planning or attainment demonstration.

Pursuant to CAA section 110(a)(1), and consistent with EPA guidance, EAC areas submitted plans to demonstrate continued maintenance of the 1997 8-hour ozone NAAQS.³ As required, these 110(a)(1) maintenance plans provide for continued attainment and maintenance of the 1997 8-hour ozone NAAQS for at least 10 years from the effective date of these areas' designation as attainment for the 1997 8-hour ozone NAAQS. These plans also include components demonstrating how each area will continue to attain the 1997 8-hour ozone NAAQS, and provide contingency measures should an area violate the NAAQS. On August 3, 2010, TDEC submitted a draft 110(a)(1) maintenance plan for the Middle Tennessee Area for the 1997 8-hour ozone NAAQS, and submitted the final SIP revision on October 13, 2010. EPA approved the maintenance plan on January 28, 2011 (76 FR 5078).

³ US EPA, Lydia Wegman, May 20, 2005. Memorandum and Guidance Document: Maintenance Plan Guidance Document for Certain 8-hour Ozone Areas Under Section 110(a)(1) of Clean Air Act.

Tennessee is now requesting that EPA remove the federal 7.8 psi RVP requirement for the Middle Tennessee Area, and the State submitted a SIP revision on November 21, 2016, revising its 110(a)(1) maintenance plan for the 1997 8-hour ozone NAAQS, including a noninterference demonstration to support its request.⁴

⁴ Effective July 20, 2012, EPA designated the Middle Tennessee Area as unclassifiable/attainment for the 2008 8-hour ozone NAAQS. See 77 FR 30088 (April 30, 2012). Although the Middle Tennessee Area is designated as unclassifiable/attainment for the 2008 8-hour ozone NAAQS and attainment for the 1997 8-hour ozone NAAQS, the federal 7.8 psi RVP requirement nonetheless remains in place because the State has never requested removal of the more stringent RVP.

III. What is the history of the gasoline volatility requirement?

On August 19, 1987 (52 FR 31274), EPA determined that gasoline nationwide had become increasingly volatile, causing an increase in evaporative emissions from gasoline-powered vehicles and equipment. Evaporative emissions from gasoline, referred to as volatile organic compounds (VOCs), are precursors to the formation of tropospheric ozone and contribute to the nation's ground-level ozone problem. Exposure to ground-level ozone can reduce lung function (thereby aggravating asthma or other respiratory conditions), increase susceptibility to respiratory infection, and may contribute to premature death in people with heart and lung disease.

The most common measure of fuel volatility that is useful in evaluating gasoline evaporative emissions is RVP. Under section 211(c) of CAA, EPA promulgated regulations on March 22, 1989 (54 FR 11868), that set maximum limits for the RVP of gasoline sold during the high ozone season. These regulations constituted Phase I of a two-phase nationwide program, which was designed to reduce the volatility of commercial gasoline during the summer ozone control season. On June 11, 1990 (55 FR 23658), EPA promulgated more stringent volatility controls as Phase II of the volatility control program. These requirements established maximum RVP standards of 9.0 psi or 7.8 psi (depending on the State, the month, and the area's initial ozone attainment designation with respect to the 1-hour ozone NAAQS during the high ozone season).

The 1990 CAA Amendments established a new section, 211(h), to address fuel volatility. Section 211(h) requires EPA to promulgate regulations making it unlawful to sell, offer for sale, dispense, supply, offer for supply, transport, or introduce into commerce gasoline with an RVP level in excess of 9.0 psi during the high ozone season. Section 211(h) prohibits EPA from establishing a volatility standard more stringent than 9.0 psi in an attainment area, except that EPA may impose a lower (more stringent) standard in any former ozone nonattainment area redesignated to attainment.

On December 12, 1991 (56 FR 64704), EPA modified the Phase II volatility regulations to be consistent with section 211(h) of the CAA. The modified regulations prohibited the sale of gasoline with an RVP above 9.0 psi in all areas designated attainment for ozone, beginning in 1992. For areas designated as nonattainment, the regulations retained the original Phase II standards published on June 11, 1990 (55 FR 23658). A current listing of the RVP requirements for states can be found on EPA's Web site at: https://www.epa.gov/gasoline-standards.

As explained in the December 12, 1991 (56 FR 64704), Phase II rulemaking, EPA believes that relaxation of an applicable RVP standard is best accomplished in conjunction with the redesignation process. In order for an ozone nonattainment area to be redesignated as an attainment area, section 107(d)(3) of the Act requires the state to make a showing, pursuant to section 175A of the Act, that the area is capable of maintaining attainment for the ozone NAAQS for ten years after redesignation. Depending on the area's circumstances, this maintenance plan will either demonstrate that the area is capable of maintaining attainment for ten years without the more stringent volatility standard or that the more stringent volatility standard may be necessary for the area to maintain its attainment with the ozone NAAQS. Therefore, in the context of a request for redesignation, EPA will not relax the volatility standard unless the state requests a relaxation and the maintenance plan demonstrates, to the satisfaction of EPA, that the area will maintain attainment for ten years without the need for the more stringent volatility standard.

As noted previosly, Tennessee did not request relaxation of the applicable 7.8 psi federal RVP standard when the Middle Tennessee Area was redesignated to attainment for the 1-hour ozone NAAQS. Tennessee is therefore now revising its maintenance plan and modeling for the 1997 8-hour ozone NAAQS with a conservative approach in estimating emissions by using a level of 9.0 psi.

IV. What are the section 110(l) requirements?

To support Tennessee's request to relax the federal RVP requirement in the Middle Tennessee Area, the State must demonstrate that the requested change will satisfy section 110(l) of the CAA. Section 110(l) requires that a revision to the SIP not interfere with any applicable requirement concerning attainment and reasonable further progress (as defined in section 171), or any other applicable requirement of the Act. EPA's criterion for determining the approvability of Tennessee's November 21, 2016, SIP revision is whether the noninterference demonstration associated with the relaxation request satisfies section 110(l). The modeling associated with Tennessee's maintenance plan for the 1997 8-hour ozone NAAQS is premised upon the 7.8 psi RVP requirements. So the request for a change in the federal RVP requirement is accompanied by a revision to the maintenance plan with updated modeling based on the 9.0 psi RVP. EPA is proposing approval of the revised maintenance plan based on an evaluation of current air quality monitoring data, the information provided in the revised maintenance plan, and the maintenance plan requirements in the CAA.

EPA evaluates each section 110(l) noninterference demonstration on a case-by-case basis considering the circumstances of each SIP revision. EPA interprets 110(l) as applying to all NAAQS that are in effect, including those that have been promulgated but for which EPA has not yet made designations. The degree of analysis focused on any particular NAAQS in a noninterference demonstration varies depending on the nature of the emissions associated with the proposed SIP revision. EPA's analysis of Tennessee's November 21, 2016, SIP revision pursuant to section 110(l) is provided below.

EPA notes that in this action, it is only proposing to approve the State's technical demonstration that the Area can continue to attain and maintain the NAAQS and meet other CAA requirements after switching to the sale of gasoline with an RVP of 9.0 psi in the Middle Tennessee Area during the high ozone season and to amend the SIP to include this demonstration and revise the maintenance plan for the 1997 8-hour ozone NAAQS. Consistent with CAA section 211(h) and the Phase II volatility regulations, EPA will initiate a separate rulemaking to relax the current federal requirement to use gasoline with an RVP of 7.8 psi in the Middle Tennessee Area.

V. What is EPA's analysis of Tennessee's submittal?

a. Overall Preliminary Conclusions Regarding Tennessee's Non-Interference Analyses

On November 21, 2016, TDEC submitted a SIP revision making changes to the 110(a)(1) maintenance plan for the Middle Tennessee Area, including a noninterference demonstration to support the State's request to modify the RVP summertime gasoline requirement from 7.8 psi to 9.0 psi for the Area. This demonstration includes an evaluation of the impact that the removal of the 7.8 psi RVP requirement would have on maintenance of the ozone standards and on the maintenance of the other NAAQS.⁵ Tennessee focused its analysis on the impact of the change in RVP to attainment and maintenance of the ozone, PM,⁶ and NO2 NAAQS because RVP requirements do not affect lead, sulfur dioxide (SO2), or carbon monoxide (CO) emissions; because VOC and NOX emissions are precursors for ozone and PM; and because NO2 is a component of NOX.

⁵ The six NAAQS for which EPA establishes health and welfare based standards are CO, lead, NO2, ozone, PM, and SO2.

⁶ PM is composed of PM2.5 and PM10.

TDEC's noninterference analysis utilized EPA's 2014 Motor Vehicle Emissions Simulator (MOVES2014a) emission modeling system to estimate emissions for mobile sources.⁷ These mobile source emissions are used as part of the evaluation of the potential impacts to the NAAQS that might result exclusively from changing the high ozone season RVP requirement from 7.8 psi to 9.0 psi. As summarized in Tables 1 and 2, below, the MOVES model predicted minor increases in mobile source NOX and VOC emissions from the switch to 9.0 psi RVP fuel. Daily on-road mobile NOX emissions are projected to increase by 0.09 tpd in 2018 during the ozone season, while daily on-road mobile VOC emissions are projected to increase by 0.05 tpd (approximately 0.3 percent for both pollutants).

⁷ The MOVES2014a model was the latest EPA mobile source model available to the State at the time that it developed its SIP revision. TDEC's modeling using MOVES2014a conforms with EPA's modeling guidance.

Table 1—On-road Mobile Source Ozone Season NOX Emissions (Aveage Tons/Day) in Middle Tennessee
County | 7.8 psi RVP: 2007 | 7.8 psi RVP: 2010 | 7.8 psi RVP: 2014 | 7.8 psi RVP: 2018 | 9.0 psi RVP: 2018
Davidson | 40.50 | 33.80 | 24.86 | 15.88 | 15.92
Rutherford | 20.40 | 17.10 | 12.70 | 8.28 | 8.30
Sumner | 9.20 | 7.50 | 5.22 | 2.94 | 2.95
Williamson | 13.50 | 11.06 | 7.82 | 4.56 | 4.57
Wilson | 13.80 | 11.31 | 8.00 | 4.67 | 4.68
Total | 97.40 | 80.77 | 58.59 | 36.33 | 36.42

Table 2—On-road Mobile Source Ozone Season VOC Emissions (Average Tons/Day) in Middle Tennessee
County | 7.8 psi RVP: 2007 | 7.8 psi RVP: 2010 | 7.8 psi RVP: 2014 | 7.8 psi RVP: 2018 | 9.0 psi RVP: 2018
Davidson | 17.10 | 14.69 | 11.47 | 8.25 | 8.26
Rutherford | 5.60 | 5.10 | 4.44 | 3.75 | 3.77
Sumner | 3.30 | 2.93 | 2.45 | 1.95 | 1.96
Williamson | 4.50 | 3.93 | 3.17 | 2.41 | 2.41
Wilson | 3.30 | 2.95 | 2.47 | 1.99 | 2.00
Total | 33.80 | 29.60 | 24.00 | 18.35 | 18.40

TDEC's analysis in the November 21, 2016, submittal shows that RVP relaxation could increase total anthropogenic VOC emissions by 0.8 percent and increase total anthropogenic NOX emissions by 0.1 percent in 2018. Table 3, below, shows the total estimated anthropogenic emissions of NOX and VOC from area, point, on-road, nonroad and aircraft, locomotive, and commercial marine source categories for the Middle Tennessee Area.⁸ Emissions reported for 2018 in the Table assume the use of 9.0 psi RVP fuel whereas emissions from 2007 through 2014 assume the use of 7.8 psi RVP fuel. The 110(a)(1) Maintenance Plan Guidance indicates that the principal mechanism for demonstrating continued attainment is a projected future inventory. NOX and VOC emissions are projected to continue to decrease in the Middle Tennessee Area even with the use of 9.0 psi RVP fuel in the entire Area. NOX emissions are expected to decrease by 46% from 2007 to 2018 for the Middle Tennessee Area. Similarly, VOC emissions are expected to decrease by 26% over the same timeframe. Therefore, emissions resulting in the change in RVP are not expected to cause the area to be out of compliance with any NAAQS.

⁸ To see more details about emissions inventory development, see Appendices A-D of the November 21, 2016, SIP submittal.

Table 3—Total Anthropogenic Ozone Season Emissions of NOX and VOC (Average Tons/Day) for Middle Tennessee
Year | NOX | VOC
2007 (7.8 psi RVP) | 164.25 | 126.18
2010 (7.8 psi RVP) | 141.48 | 119.18
2014 (7.8 psi RVP) | 115.90 | 93.30
2018 (9.0 psi RVP) | 89.17 | 92.91
Difference from 2007 to 2018 | −75.08 | −33.27

b. Noninterference Analysis for the Ozone NAAQS

As described above, the Middle Tennessee Area was redesignated to attainment for purposes of the 1-hour ozone NAAQS. This redesignation was based upon a Tennessee redesignation request for the Area which included the required 1-hour ozone monitoring data and maintenance plan ensuring the Area would remain in attainment of the 1-hour ozone NAAQS for at least a period of 10 years (consistent with CAA 175A(a)). The maintenance plan requirements remained in place for the counties when they were subsequently designated unclassifiable/attainment on April 30, 2004, for the 1997 8-hour ozone NAAQS (69 FR 23858) effective June 15, 2004. However, because this 1997 8-hour ozone unclassifiable/attainment area had an existing maintenance plan pursuant to the 1-hour ozone NAAQS, it was required to submit a 10-year 110(a)(1) maintenance plan for purposes of the 1997 8-hour ozone NAAQS. As required, 110(a)(1) maintenance plans provide for continued attainment and maintenance of the 1997 8-hour ozone NAAQS for at least 10 years from the effective date of areas' designation as unclassifiable/attainment for the 1997 8-hour ozone NAAQS. As a previous 1-hour ozone nonattainment area, the Middle Tennessee Area was already subject to the federal RVP requirements for high ozone season gasoline. Although originally implemented for the 1-hour ozone NAAQS, these Federal RVP requirements continued to apply to the Middle Tennessee Area per the 110(a)(1) maintenance plan required to show continued attainment and maintenance of the 1997 8-hour ozone NAAQS.

The Middle Tennessee Area is continuing to meet the 1-hour NAAQS, the 1997 8-hour ozone NAAQS,⁹ and the 2008 8-hour ozone NAAQS, based on recent air quality monitoring data. The 2008 ozone NAAQS is met when the annual fourth-highest daily maximum 8-hour average concentration, averaged over 3 years is 0.075 parts per million (ppm) or less. Similarly, the 2015 ozone NAAQS, promulgated October 1, 2015, as published in a final rule on October 26, 2015 (80 FR 65292), is met when the annual fourth-highest daily maximum 8-hour average concentration, averaged over 3 years is 0.070 ppm or less. The trend in design values (DV) for ozone for the Middle Tennessee Area is shown in Table 4, with the current DV in the Area being 0.067 ppm in 2015, below the 2015 standard. EPA also evaluated the potential increase in the VOC and NOX precursor emissions, and whether it is reasonable to conclude that the requested change to RVP requirements in the Areas during the high ozone season would cause the Middle Tennessee Area to be out of compliance with the 2008 8-hour ozone NAAQS.

⁹ The air quality design value for the 8-hour ozone NAAQS is the 3-year average of the annual 4th highest daily maximum 8-hour ozone concentration. The level of the 2008 8-hour ozone NAAQS is 0.075 ppm. The 2008 8-hour ozone NAAQS is not met when the design value is greater than 0.075 ppm.

Table 4—Middle Tennessee Area Ozone Design Value Trends
Years | Design value (ppm)
2005-2007 | 0.084
2006-2008 | 0.084
2007-2009 | 0.078
2008-2010 | 0.076
2009-2011 | 0.075
2010-2012 | 0.079
2011-2013 | 0.076
2012-2014 | 0.072
2013-2015 | 0.067

Table 4 also shows that there is an overall downward trend in ozone concentrations in the Middle Tennessee Area. This decline can be attributed to federal and state programs that have led to significant emissions reductions in ozone precursors, such as federal standards in onroad and nonroad mobile source sectors and resultant fleet turnover. Given this downward trend, the downward trend in precursor emissions, the current ozone concentrations in the Middle Tennessee Area, and the results of Tennessee's emissions analysis, EPA is proposing to determine that a change to 9.0 psi RVP fuel for the affected counties would not interfere with the Area's ability to attain or maintain the ozone NAAQS in the Area. There has been no formal determination at this point for whether the Middle Tennessee Area is attaining the 2015 ozone NAAQS.¹⁰ However, for the reasons noted above, EPA is proposing to determine that changing the RVP to 9.0 psi for the Middle Tennessee Area will not significantly impact the Area's ability to attain or maintain the 2015 ozone NAAQS.

¹⁰ EPA will designate areas for the 2015 ozone NAAQS based on 2013-2015 data by October 1, 2017. The deadline for states to submit recommendations for initial designations with respect to the 2015 ozone NAAQS was October 1, 2016. See 80 FR 65292 (October 26, 2015).

c. Noninterference Analysis for the PM NAAQS

Over the course of several years, EPA has reviewed and revised the PM2.5 NAAQS a number of times. On July 16, 1997, EPA established an annual PM2.5 NAAQS of 15.0 micrograms per cubic meter (μg/m³), based on a 3-year average of annual mean PM2.5 concentrations, and a 24-hour PM2.5 NAAQS of 65 μg/m³, based on a 3-year average of the 98th percentile of 24-hour concentrations. See 62 FR 36852 (July 18, 1997). On September 21, 2006, EPA retained the 1997 Annual PM2.5 NAAQS of 15.0 μg/m³ but revised the 24-hour PM2.5 NAAQS to 35 μg/m³, based again on a 3-year average of the 98th percentile of 24-hour concentrations. See 71 FR 61144 (October 17, 2006). On December 14, 2012, EPA retained the 2006 24-hour PM2.5 NAAQS of 35 μg/m³ but revised the annual primary PM2.5 NAAQS to 12.0 μg/m³, based again on a 3-year average of annual mean PM2.5 concentrations. See 78 FR 3086 (January 15, 2013).

The main precursor pollutants for PM2.5 are NOX, SO2, VOC, and ammonia. As mentioned earlier in this rulemaking, the federal RVP requirements only result in emissions benefits for VOC and NOX. Therefore, Tennessee focused on these two PM2.5 precursors in its analysis of the potential impact of changing the RVP requirements for the Middle Tennessee Area on the PM2.5 NAAQS. Tennessee asserted in its 110(l) demonstration that relaxing the RVP standard will have little impact on these precursor emissions in relation to PM formation and is not expected to negatively impact attainment or maintenance of the PM2.5 NAAQS. Moreover, there have been a number of studies which have indicated that SO2 is the primary driver of PM2.5 formation in the Southeast.¹¹

¹¹ See, e.g., Journal of Environmental Engineering—Quantifying the sources of ozone, fine particulate matter, and regional haze in the Southeastern United States (June 24, 2009), http://www.journals.elsevier.com/journalofenvironmental-management.

Given the downward trend in precursor emissions noted above and the small increases in those emissions with a relaxation of the RVP standard (less than 0.1 tpd for each pollutant), and given that RVP will not affect the most significant PM2.5 precursor (SO2), EPA is proposing to determine that a change to 9.0 psi RVP fuel for the affected counties would not interfere with the Area's ability to attain or maintain the PM2.5 NAAQS in the Area.

d. Noninterference Analysis for the 2010 NO2 NAAQS

On February 17, 2012, EPA designated all counties in Tennessee as unclassifiable/attainment for the 2010 NO2 NAAQS. See 77 FR 9532. Based on the technical analysis in Tennessee's November 21, 2016, SIP revision, the projected increase in total anthropogenic NOX emissions associated with the change to 9.0 psi RVP fuel for the Middle Tennessee Area is approximately 0.09 tpd in 2018. Given the current unclassifiable/attainment designation and the results of Tennessee's emissions and modeling analysis, EPA is proposing to determine that a change to 9.0 psi RVP fuel for the Middle Tennessee Area would not interfere with maintenance of the 2010 NO2 NAAQS in the Area.

VI. Proposed Action

EPA is proposing to approve Tennessee's November 21, 2016, SIP revision consisting of a revision to its 110(a)(1) maintenance plan for the 1997 8-hour ozone NAAQS for the Middle Tennessee Area and the technical noninterference demonstration supporting the State's request to relax the RVP standard to 9.0 psi in the Area. Specifically, EPA is proposing to accept updated emissions inventory and projections associated with the mobile source modeling used in the State's noninterference demonstration related to RVP. EPA is also proposing to find that this change in the RVP requirements for the Middle Tennessee Area will not interfere with attainment or maintenance of any NAAQS or with any other applicable requirement of the CAA.

EPA is proposing that Tennessee's November 21, 2016, SIP revision, including the technical demonstration associated with the State's request for the removal of the federal RVP requirements, and the updated attainment inventory and emissions projections, are consistent with the applicable provisions of the CAA. Should EPA decide to remove the counties of the Middle Tennessee Area from those areas subject to the 7.8 psi federal RVP requirements, such action will occur in a separate, subsequent rulemaking.

VII. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this proposed action merely approves state law as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen dioxide, Ozone, Particulate matter, Reporting and recordkeeping requirements, Volatile organic compounds.

Authority: 42 U.S.C. 7401 et seq.

Dated: January 20, 2017.
V. Anne Heard,
Acting Regional Administrator, Region 4.

[FR Doc. 2017-03579 Filed 2-23-17; 8:45 am]

BILLING CODE 6560-50-P